DEPARTMENT OF ENERGY

Federal Energy Regulatory Commission

[Docket No. CP08-10-000]

Trunkline Gas Company, LLC; Notice of Request Under Blanket Authorization

October 19, 2007.

Take notice that on October 16, 2007, Trunkline Gas Company LLC (Trunkline), P. O. Box 4967, Houston, Texas 77210-4967, filed in Docket No. CP08-10-000 a prior notice request pursuant to sections 157.205(b), 157.208(c), and 157.212 of the Commission's regulations under the Natural Gas Act (NGA), and Trunkline's blanket certificate issued in Docket No. CP83-84-000 on October 1, 1983.¹ Trunkline seeks authorization to construct, own, and operate a new receipt point to receive revaporized liquefied natural (LNG)gas in Beauregard Parish, Louisiana, all as more fully set forth in the application which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

¹ 22 FERC ¶ 62,044 (1983).

Specifically, Trunkline proposes design and construct two 24-inch tap assemblies, valves, overpressure protection equipment, a remote terminal unit and approximately 400 feet of 24-inch pipe to receive LNG from Creole Trail LNG, L.P. LNG import terminal by way of the Cheniere Pipeline facilities.²

² See Creole Trail LNG, L.P., et al., 115 FERC ¶ 61,331 (2006).

Any questions regarding this application should be directed to Stephen T. Veatch, Regulatory Affairs, Trunkline Gas Company, LLC, 5444 Westheimer Road, Houston, TX, 77056, or call (713)989-2024 or (713)989-7660.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a) (1) (iii) and the instructions on the Commission's Web site (http://www.ferc.gov) under the “e-Filing” link.

Comment Date: December, 18, 2007.

Kimberly D. Bose,
Secretary.

[FR Doc. E7-21162 Filed 10-25-07; 8:45 am]

BILLING CODE 6717-01-P